DEPARTMENT OF ENERGY

Federal Energy Regulatory Commission

[Project Nos. 176-018; 176-035]

City of Escondido, California, & Vista Irrigation District; Notice of Effective Date for Exemption From Licensing (Conduit), Surrender of License, and Dismissal of Relicense Application

On September 25, 2012, the Commission issued a Conditional Order Granting Exemption from Licensing (Conduit), Accepting Surrender of License, and Dismissing Relicense Application for the Escondido Project No. 176 (the 2012 Order).¹ The Escondido Project is located on the San Luis Rey River and Escondido Creek, near the city of Escondido, in San Diego County, California.

¹ City of Escondido and Vista Irrigation District, 140 FERC 62,226 (2012).

The 2012 Order approved a conduit exemption for the Bear Valley Powerhouse Project No. 176 (part of the existing Escondido Project) and accepted surrender of the license for the remaining project facilities. Both the conduit exemption and the license surrender were contingent on certain conditions being met including the protection of historic properties, approval of a water rights settlement agreement, dismissal of pending court proceedings, and obtaining a rights-of-way agreement for parts of the project that would continue to occupy federal land after the surrender. The 2012 order also dismissed the relicense application for the Escondido Project, effective as of the effective date of the conduit exemption and license surrender.

On May 3, 2017, the City of Escondido and Vista Irrigation District filed documentation that all conditions in the 2012 Order have been satisfied. Therefore, the new Bear Valley Powerhouse Project No. 176 conduit exemption, the license surrender for the Escondido Project No. 176, and our dismissal of the relicensing application are all effective as of the date of this notice.

Dated: May 17, 2017.
Kimberly D. Bose,
Secretary.

[FR Doc. 2017-10514 Filed 5-22-17; 8:45 am]

BILLING CODE 6717-01-P